DEPARTMENT OF DEFENSE

Department of the Navy

Secretarial Authorization for Members of the Department of the Navy To Serve on the Board of Directors, Navy-Marine Corps Relief Society

AGENCY: Department of the Navy (DoN), Department of Defense (DoD).

ACTION: Notice.

SUMMARY: The Secretary of the Navy, with the concurrence of the Department of Defense General Counsel, has authorized Deputy Commandant, Installations and Logistics, current incumbent Lieutenant General Edward D. Banta, United States Marine Corps (USMC); Command Sergeant Major for Manpower and Reserve Affairs (Headquarters USMC), current incumbent Sergeant Major Rafael Rodriguez, USMC; and Chief of Naval Personnel Fleet Master Chief Petty Officer, current incumbent Master Chief Petty Officer Wesley K. Koshoffer, United States Navy, and successors to these positions, to serve without compensation on the Board of Directors of the Navy-Marine Corps Relief Society. Authorization to serve on the Board of Directors has been made for the purpose of providing oversight and advice to, and coordination with, the Navy-Marine Corps Relief Society. Participation of the above officials in the activities of the Society will not extend to participation in day-to-day operations.

ADDRESSES: Commander Jonathan T. Flynn, Office of the Judge Advocate General, Administrative Law Division, 703-614- 7479.

Dated: May 13, 2022.
J.M. Pike,
Commander, Judge Advocate General's Corps, U.S. Navy, Federal Register Liaison Officer.

[FR Doc. 2022-10745 Filed 5-18-22; 8:45 am]

BILLING CODE 3810-FF-P